DEPARTMENT OF AGRICULTURE

Commodity Credit Corporation

Notice of Finding of No Significant Impact on the Final Programmatic Environmental Assessment for the Farm Storage Facility Loan Program

AGENCY: Commodity Credit Corporation and Farm Service Agency, USDA.

ACTION: Notice; Finding of No Significant Impact.

SUMMARY: This notice announces that the Farm Service Agency (FSA), on behalf of the Commodity Credit Corporation (CCC), has completed a Final Programmatic Environmental Assessment (PEA) and is issuing a Finding of No Significant Impact (FONSI) with respect to the implementation of changes to the Farm Storage Facility Loan (FSFL) program enacted by the Food, Conservation, and Energy Act of 2008 (2008 Farm Bill).

DATES: We will consider comments that we receive by September 17, 2009.

ADDRESSES: We invite you to submit comments on this Final PEA. In your comments, include the volume, date, and page number of this issue of the Federal Register. You may submit comments by any of the following methods:

• E-mail: FSFLPEA@geo-marine.com.

• Online: Go to the Web site at http://public.geo-marine.com. Follow the online instructions for submitting comments.

• Federal eRulemaking Portal: Go to http://www.regulations.gov. Follow the online instructions for submitting comments.

• Fax: (757) 873-3703.

• Mail: FSFL Program PEA, c/o Geo-marine Incorporated, 2713 Magruder Boulevard Suite D, Hampton, VA 23666.

• Hand Delivery or Courier: Deliver comments to the above address.

Comments may be inspected in the Office of the Director, CEPD, FSA, USDA, 1400 Independence Ave., SW., Room 4709 South Building, Washington, DC, between 8 a.m. and 4:30 p.m., Monday through Friday, except holidays. A copy of the FONSI and Final PEA is available through the FSA home page at http://www.fsa.usda.gov/FSA/webapp?area=home&subject=ecrc&topic=nep-cd.

FOR FURTHER INFORMATION CONTACT: Matthew Ponish, National Environmental Compliance Manager, USDA, FSA, CEPD, Stop 0513, 1400 Independence Ave., SW., Washington, DC 20250-0513, (202) 720-6853, or e-mail: Matthew.Ponish@wdc.usda.gov. Persons with disabilities who require alternative means for communication (Braille, large print, audio tape, etc.) should contact the USDA Target Center at (202) 720-2600 (voice and TDD).

SUPPLEMENTARY INFORMATION: The FSFL program provides, through the FSA county offices, low-interest loans to eligible producers for the purposes of constructing or upgrading on-farm storage facilities for storing eligible facility loan commodities that such producers produce. The FSFL program is authorized under the CCC Charter Act (15 U.S.C. 714-714p). FSA, on behalf of CCC, administers the FSFL program. The 2008 Farm Bill (Pub. L. 110-246) includes several changes to the FSFL program.

The Final PEA assesses the potential environmental impacts associated with implementing changes to provisions of the FSFL program as required by sections 1404 and 1614 of the 2008 Farm Bill (7 U.S.C. 8789). The 2008 Farm Bill specifies the increases to the maximum term of a farm storage facility loan and the maximum loan amount, identifies additional commodities eligible for storage, specifies the required loan security, allows for partial disbursement of loans, and no longer requires a severance agreement if certain conditions are met. In addition, the 2008 Farm Bill gives the Secretary discretionary authority to determine other eligible facility loan commodities. The need for the Proposed Action is to implement provisions of the 2008 Farm Bill that revise the FSFL program. The specific changes to the FSFL program include:

• Adding hay and renewable biomass as eligible facility loan commodities and making the appropriate storage facilities eligible for loans;

• Extending the maximum loan term to 12 years;

• Increasing the maximum loan amount to $500,000;

• Allowing one partial loan disbursement and the final disbursement;

• Specifying the loan security requirements and allowing the borrower the option to increase the down payment on a loan, instead of requiring a severance agreement from the holder of any prior lien on the real estate where the storage facility is located; and

• As a discretionary provision, adding vegetables and fruits that require cold storage facilities as eligible facility loan commodities.

FSA analyzed the No Action Alternative (continuation of the FSFL program as currently implemented) as an environmental baseline.

The Final PEA also provides a means for the public to voice any suggestions they may have about the program and any ideas for rulemaking. The Final PEA can be reviewed online at: http://www.fsa.usda.gov/FSA/webapp?area=home&subject=ecrc&topic=nep-cd.

The Final PEA was completed as required by the National Environmental Policy Act (NEPA, 42 U.S.C. 4321-4347), the Council on Environmental Quality (CEQ) Regulations for Implementing the Procedural Provisions of NEPA (40 CFR parts 1500-1508), and FSA's policy and procedures (7 CFR part 799). Additional analysis under NEPA of potential impacts associated with certain implementation alternatives not included in the PEA may be conducted, as appropriate.

Determination

In consideration of the analysis documented in the Final PEA and the reasons outlined in the FONSI, the preferred alternative (proposed action) would not constitute a major State or Federal action that would significantly affect the human environment. In accordance with NEPA, 40 CFR part 1502.4, “Major Federal Actions Requiring the Preparation of Environmental Impact Statements,” and 7 CFR part 799, “Environmental Quality and Related Environmental Concerns—Compliance with the National Environmental Policy Act,” and the regulations of the Council on Environmental Quality (40 CFR parts 1500-1508), I find that neither the proposed action nor any of the alternatives analyzed constitute a major Federal action significantly affecting the quality of the human environment. Therefore, no environmental impact statement will be prepared.

Signed in Washington, DC, on August 11, 2009.
Jonathan W. Coppess,
Acting Administrator, Farm Service Agency, and Acting Executive Vice President, Commodity Credit Corporation.

[FR Doc. E9-19644 Filed 8-17-09; 8:45 am]

BILLING CODE 3410-05-P